DEPARTMENT OF COMMERCE

International Trade Administration

Meeting of the President's Advisory Council on Doing Business in Africa (PAC-DBIA)

AGENCY: International Trade Administration, U.S. Department of Commerce.

ACTION: Notice of an Open Meeting of the President's Advisory Council on Doing Business in Africa (PAC-DBIA).

SUMMARY: The President's Advisory Council on Doing Business in Africa (Council) will hold a meeting via teleconference, during which the Secretary of Commerce will provide feedback on the Council's introductory letter to the President, submitted in February 2017, and published at http://trade.gov/pac-dbia/recmeet.asp. The Secretary will also provide formal direction to the Council for the next phase of analysis and recommendations to be requested on behalf of the President. The final agenda for the meeting will be posted at least one week in advance of the meeting on the Council's Web site at http://trade.gov/pac-dbia.

DATES: This teleconference will be held on August 22, 2017, 2:00-3:00 p.m. (EDT). The deadline for members of the public to register to join the meeting in listen mode or to submit comments for consideration at the meeting is 5:00 p.m. (EDT), August 15, 2017.

ADDRESSES: The meeting will be held by conference call. The call-in number and passcode will be provided by email to registrants. Requests to register (including for auxiliary aids) and any written comments should be submitted by the deadline to: President's Advisory Council on Doing Business in Africa, U.S. Department of Commerce, Room 22004, 1401 Constitution Avenue NW., Washington, DC 20230, or by email to dbia@trade.gov. Members of the public are encouraged to submit registration requests and written comments via email to ensure timely receipt.

FOR FURTHER INFORMATION CONTACT: Giancarlo Cavallo or Ashley Bubna, Designated Federal Officers, President's Advisory Council on Doing Business in Africa, Department of Commerce, 1401 Constitution Ave. NW., Room 22004, Washington, DC 20230 telephone: 202-482-2091, email: dbia@trade.gov.

SUPPLEMENTARY INFORMATION:

Background: The President's Advisory Council on Doing Business in Africa was established on November 4, 2014, to advise the President, through the Secretary of Commerce, on strengthening commercial engagement between the United States and Africa. The Council's charter was renewed for a second, two-year term in September 2016. This Council is established in accordance with the provisions of the Federal Advisory Committee Act (FACA), as amended, 5 U.S.C. App.

Public Submissions: The public is invited to submit written statements to the Council. Statements must be received by 5:00 p.m. August 15, 2017 by either of the following methods:

a. Electronic Submissions

Submit statements electronically to Giancarlo Cavallo and Ashley Bubna, Designated Federal Officers, President's Advisory Council on Doing Business in Africa, via email: dbia@trade.gov.

b. Paper Submissions

Send paper statements to Giancarlo Cavallo and Ashley Bubna, Designated Federal Officers, President's Advisory Council on Doing Business in Africa, Department of Commerce, 1401 Constitution Ave. NW., Room 22004, Washington, DC 20230.

Statements will be provided to the members in advance of the meeting for consideration and also will be posted on the President's Advisory Council on Doing Business in Africa Web site (http://trade.gov/pac-dbia) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting on the Council's Web site at http://trade.gov/pac-dbia.

Dated: August 2, 2017.
Fred Stewart,
Director, Office of Africa.

[FR Doc. 2017-16610 Filed 8-4-17; 8:45 am]

BILLING CODE 3510-DR-P